DEPARTMENT OF VETERANS AFFAIRS

[OMB Control No. 2900-0222]

Agency Information Collection Activity Under OMB Review: Claim for Standard Government Headstone or Marker and Claim for Government Medallion for Placement in a Private Cemetery

AGENCY: National Cemetery Administration, Department of Veterans Affairs.

ACTION: Notice.

SUMMARY: In compliance with the Paperwork Reduction Act (PRA) of 1995, this notice announces that the Department of Veterans Affairs (VA), National Cemetery Administration (NCA) will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0222.”

FOR FURTHER INFORMATION CONTACT: Maribel Aponte, Office of Enterprise and Integration, Data Governance Analytics (008), 1717 H Street NW, Washington, DC 20006, (202) 266-4688 or email maribel.aponte@va.gov. Please refer to “OMB Control No. 2900-0222” in any correspondence.

SUPPLEMENTARY INFORMATION:

Authority: Public Law 104-13; U.S.C. 3501-21.

Title: VA Form 40-1330, Claim for Standard Government Headstone or Marker, and VA Form 40-1330M, Claim for Government Medallion for Placement in a Private Cemetery.

OMB Control Number: 2900-0222.

Type of Review: Reinstatement with change of a previously approved collection.

Abstract: The National Cemetery Administration (NCA) updated its current VA Form 40-1330 and VA Form 40-1330M. The original VA Form 40-1330 and 40-1330M is a request for a Government-furnished headstone or marker, or medallion, respectively. The updates include the following:

• Information about the Presidential Memorial Certificate (PMC) Program and the option to receive a PMC in addition to the headstone, marker or medallion, consistent with 38 U.S.C. 112.

• Changes in eligibility for a medallion, consistent with 38 U.S.C. 2306(d)(4)(A).

• Addition of race, ethnicity, gender identify, and age demographic information for VA's statistical purposes (see item 11), consistent with Public Law 103-446, Section 509, Center for Minority Veterans and Center for Women Veterans.

• Addition of new emblems of belief consistent with 38 U.S.C. 2306(c) and 38 CFR 38.630(b) and 38.632(b)(2).

• Update parenthetical in Block 12 to (OPTIONAL, BUT IF INCLUDED, NO PAY GRADES).

• Update parenthetical in Block 14 to (OPTIONAL, BUT IF INCLUDED PROVIDE DOCUMENTATION).

• Update parenthetical in Block 16 to (OPTIONAL, BUT IF PROVIDED CHECK ALL APPLICABLE BOXES).

• Addition of statement in the Transportation and Delivery of Marker section for consignee to inspect the headstone or marker for accuracy prior to installation.

• Addition of information and picture of new small flat granite marker, consistent with 38 U.S.C. 2306(c) and 38 CFR 38.630(a).

An agency may not conduct or sponsor, and a person is not required to respond to a collection of information unless it displays a currently valid OMB control number. The Federal Register Notice with a 60-day comment period soliciting comments on this collection of information was published at 86 FR 51 on March 18, 2021, pages 14799 and 14800.

Affected Public: Individuals or Households.

Estimated Annual Burden: 41,534.

Estimated Average Burden per Respondent: 15 minutes.

Frequency of Response: One time.

Estimated Number of Respondents: 166,135.

By direction of the Secretary.
Maribel Aponte,
VA PRA Clearance Officer, Office of Enterprise and Integration, Data Governance Analytics, Department of Veterans Affairs.

[FR Doc. 2021-10483 Filed 5-18-21; 8:45 am]

BILLING CODE 8320-01-P